DEPARTMENT OF COMMERCE

National Oceanic and Atmospheric Administration

RIN 0648-XB129

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) to consider actions affecting New England fisheries in the exclusive economic zone (EEZ). Recommendations from this group will be brought to the full Council for formal consideration and action, if appropriate.

DATES: This meeting will be held on Monday, April 16, 2012 at 8 a.m.

ADDRESSES: The meeting will be held at the Hotel Providence, 137 Mathewson Street, Providence, RI 02903; telephone: (401) 861-8000; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The NEFMC's Scientific and Statistical Committee will:

a. Complete development of fishing year 2013 and 2014 ABC recommendations for redfish, Georges Bank haddock, Gulf of Maine/Georges Bank windowpane flounder, Southern New England/Mid-Atlantic windowpane flounder, ocean pout, wolffish and halibut, for recommendations not completed from the March 28, 2012 SSC meeting.

b. Review assessments and develop fishing year 2013 and 2014 ABC recommendations for Georges Bank cod, Gulf of Maine haddock, Cape Cod/Gulf of Maine yellowtail flounder, American plaice, witch flounder and Georges Bank/Gulf of Maine white hake.

c. Other business may be discussed.

The public is invited to participate in the SSC meeting via webinar. For online access to the meeting, please reserve your webinar seat now at https://www3.gotomeeting.com/register/309803270.

Although non-emergency issues not contained in this agenda may come before this group for discussion, th ose issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 27, 2012.
Tracey L. Thompson,
Acting Director, Office of Sustainable Fisheries, National Marine Fisheries Service.

[FR Doc. 2012-7658 Filed 3-29-12; 8:45 am]

BILLING CODE 3510-22-P